DEPARTMENT OF THE INTERIOR

National Park Service

Land and Water Conservation Fund Description and Notification, Performance Reports, Agreements and Amendments, On-site Inspection Reports, and Conversion of Use Provisions

AGENCY: National Park Service, Interior.

ACTION: Notice and request for comments.

SUMMARY: In compliance with the Paperwork Reduction Act of 1995, we (National Park Service, NPS) have sent five interrelated Information Collection Requests (ICRs) to OMB for renewal (OMB Control Numbers 1024-0031, 1024-0032, 1024-0033, 1024-0034, and 1024-0047). We summarize each ICR below and describe the nature of the collection and the estimated burden. These ICRs are scheduled to expire on August 31, 2010. We may not conduct or sponsor and a person is not required to respond to a collection of information unless it displays a currently valid OMB control number. However, under OMB regulations, we may continue to conduct or sponsor these information collections while they are pending at OMB.

DATES: Submit comments on any or all of these ICRs on or before September 23, 2010.

ADDRESSES: Send your comments and suggestions on these ICRs to the Desk Officer for the Department of the Interior at OMB-OIRA at (202) 395-5806 (fax) or OIRA_DOCKET@OMB.eop.gov (e-mail). Please provide a copy of your comments to Cartina Miller, Information Collection Clearance Officer, National Park Service, at 202-371-2049 (fax) or Cartina_Miller@nps.gov (e-mail). Please specify the appropriate OMB control number(s) in the subject line of your comment.

FOR FURTHER INFORMATION CONTACT: Laurie Heupel, Outdoor Recreation Planner, State and Local Assistance Programs, National Park Service, 1849 C Street, NW., Mail Stop 2225, Washington, DC 20240 (mail) or 202-371-5179 (fax). You are entitled to a copy of the ICR packages free of charge.

SUPPLEMENTARY INFORMATION: The Land and Water Conservation Fund Act of 1965 (LWCF Act) (16 U.S.C 4601-4 et seq.) was enacted to help preserve, develop, and ensure access to outdoor recreation facilities. The LWCF Act provides funds for and authorizes Federal assistance to the States for planning, acquisition, and development of needed land and water areas and facilities. In accordance with the LWCF Act, we administer the LWCF State Assistance Program, which provides matching grants to States, and through the States to local units of government. As used in these ICRs, the term “States” includes the 50 States; the Commonwealths of Puerto Rico and the Northern Mariana Islands; the District of Columbia; and the territories of Guam, the U.S. Virgin Islands, and American Samoa.

The LWCF State Assistance Program gives maximum flexibility and responsibility to the States. States establish their own priorities and criteria and award their grant money through a competitive selection process based on a Statewide recreation plan. Local units of government participate in the program as subgrantees of the State with the State retaining primary grant compliance responsibility.

We are seeking renewal of the following information collections for this program:

1. Description and Notification Form

Title: Land and Water Conservation Fund Description and Notification Form.

OMB Control Number: 1024-0031.

Service Form Numbers: 10-903.

Type of Request: Extension of a currently approved collection of information.

Brief Description of Collection: The Description and Notification Form (DNF), NPS 10-903, captures information about Land and Water Conservation Fund grants and the parks and recreation areas assisted through approval of a new grant, an amendment to an existing grant, or a Conversion of Use Provisions request. The DNF becomes part of the official project agreement.

Affected Public: States.

Obligation to Respond: Required to obtain or retain a benefit.

Frequency of Response: On occasion.

Estimated Total Annual Responses: 448.

Estimated Completion Time per Response: 1 hour.

Estimated Total Annual Burden Hours: 448.

2. Program Performance Report

Title: Land and Water Conservation Fund Program Performance Reports.

OMB Control Number: 1024-0032.

Type of Request: Extension of a currently approved collection of information.

Brief Description of Collection: States must submit performance reports that describe the status of the work required under the project agreement and other pertinent information. Performance reports may be combined with the on-site inspection reports approved under OMB Control No. 1024-0034. We use this information to determine that adequate progress is being made for completing projects as agreed.

Affected Public: States.

Obligation to Respond: Required to obtain or retain a benefit.

Frequency of Response: On occasion.

Estimated Total Annual Responses: 672.

Estimated Completion Time per Response: 1 hour.

Estimated Total Annual Burden Hours: 672.

3. Project Agreements and Amendments

Title: Land and Water Conservation Fund Project Agreement and Amendment.

OMB Control Number: 1024-0033.

Service Form Numbers: 10-902 and 10-902A.

Type of Request: Extension of a currently approved collection of information.

Brief Description of Collection: To receive financial assistance, States must complete and sign the LWCF Project Agreement. We use this information to document the obligations assumed by the State through its acceptance of Federal assistance. This agreement also obligates the Federal government to provide grants up to the designated amount for eligible costs. To alter an agreement, States must complete and sign the Amendment to Project Agreement.

Affected Public: States.

Obligation to Respond: Required to obtain or retain a benefit.

Frequency of Response: On occasion.

Estimated Total Annual Responses: 448 (224 for each form).

Estimated Completion Time per Response: 3 hours.

Estimated Total Annual Burden Hours: 1,344.

4. On-Site Inspection Reports

Title: Land and Water Conservation Fund On-Site Inspection Reports.

OMB Control Number: 1024-0034.

Type of Request: Extension of a currently approved collection of information.

Brief Description of Collection: On-site inspections of funded sites are required so that we can (1) determine a project's eligibility to receive LWCF assistance, (2) monitor the performance of grantees, and (3) ensure compliance with all applicable requirements and regulations.

Affected Public: States.

Obligation to Respond: Required to obtain or retain a benefit.

Frequency of Response: On occasion.

Estimated Total Annual Responses: 5,992.

Estimated Completion Time per Response: 30 minutes.

Estimated Total Annual Burden Hours: 2,996.

5. Conversion of Use Provisions Request

Title: Land and Water Conservation Fund Conversion of Use Provisions, 36 CFR 59.

OMB Control Number: 1024-0047.

Type of Request: Extension of a currently approved collection of information.

Brief Description of Collection: In accordance with section 6(f)(3) of the LWCF Act and as codified in 36 CFR part 59, no lands acquired or developed with LWCF funds can be converted to other than public outdoor recreation uses unless the NPS approves the conversion in advance. The basis for this information collection is the narrative and supporting documentation necessary to ensure that a conversion of use meets the requirements of the LWCF Act.

Affected Public: States.

Obligation to Respond: Required to obtain or retain a benefit.

Frequency of Response: On occasion.

Estimated Total Annual Responses: 50.

Estimated Completion Time per Response: 35 hours.

Estimated Total Annual Burden Hours: 1,750.

We published the following notices in the Federal Register announcing our intention to renew these ICRs and soliciting public comments for 60 days:

• OMB Control No. 1024-0031—notice published on March 24, 2010 (75 FR 14181) with public comment period open through May 24, 2010. We did not receive any comments.

• OMB Control No. 1024-0032—notice published on April 14, 2010 (75 FR 19419) with public comment period open through June 14, 2010. We did not receive any comments.

• OMB Control No. 1024-0033—notice published on April 14, 2010 (75 FR 19419) with public comment period open through June 14, 2010. We did not receive any comments.

• OMB Control No. 1024-0034—notice published on March 15, 2010 (75 FR 12253) with public comment period open through May 14, 2010. We received one comment. The commenter expressed concern that the report is negligent in design and does not protect taxpayers' money and that the program is a waste of money that accomplishes nothing for the good of the American people.

Response: On-site inspection reports are one of the methods we use to determine a project's eligibility to receive LWCF assistance, to monitor the performance of grantees, and to ensure compliance with all requirements and regulations. There is no standard report format. The State develops the on-site inspection report considering issues applicable to the specific project. An agreement negotiated between the NPS and the State covers the scope, timing, and selectivity of the inspections. If we discover that grant funds are being used improperly or the terms of the grant agreement are not being followed, we can withhold the State's LWCF funding. In addition, if anyone believes that a State's report may be incorrect or flawed, he or she should contact the appropriate NPS Regional Office.

Under the Land and Water Conservation Fund grants program, we have approved over 40,000 projects to support acquisition of open space for park lands or the development of outdoor recreation facilities in every geographic region of the United States, in every county, and in almost all localities. Seventy-five percent of the total funds obligated have gone to locally sponsored projects to provide close-to-home recreation opportunities that are readily accessible to America's youth, adults, senior citizens, and the physically or mentally challenged. In addition to thousands of small recreation areas, grants have helped to acquire and develop new parks of Statewide or national significance.

• OMB Control No. 1024-0047—notice published on April 19, 2010 (75 FR 20374) with public comment period open through June 18, 2010. We received one comment. The commenter stated that the public should have an opportunity to comment on a State's request to convert LWCF-assisted land to other than public outdoor recreational use.

Response: While there is no requirement for a State to seek public comment on a conversion of use request, the regulations at 36 CFR part 59 do require that such requests be in accord with the Statewide Comprehensive Outdoor Recreation Plan (SCORP). Before receiving LWCF grants, States must develop a SCORP and revise it at least every 5 years. The Land and Water Conservation Fund Act of 1965 requires that States provide ample opportunity for public participation during SCORP development and revision. The Governor of the State must certify that this opportunity has been afforded, and the State must send the results of public meetings and a summary of the public comments to NPS with the SCORP.

We again invite comments on: (1) The practical utility of the information being gathered; (2) the accuracy of the burden hour estimate; (3) ways to enhance the quality, utility, and clarity of the information to be collected; and (4) ways to minimize the burden to respondents, including the use of automated information collection techniques or other forms of information technology. Before including your address, phone number, e-mail, or other personal identifying information in your comment, you should be aware that your entire comment—including your personal identifying information—may be made publicly available at any time. While you can ask us in your comment to withhold your personal identifying information from public review, we cannot guarantee that we will be able to do so.

Dated: August 19, 2010.
Cartina Miller,
NPS Information Collection Officer.

[FR Doc. 2010-21041 Filed 8-23-10; 8:45 am]

BILLING CODE 4312-52-P